DEPARTMENT OF THE INTERIOR

Bureau of Land Management

[NM-920-1310-05); (NMNM 106897]

Proposed Reinstatement of Terminated Oil and Gas Lease NMNM 106897

AGENCY: Bureau of Land Management, Interior.

ACTION: Notice of reinstatement of terminated oil and gas lease.

SUMMARY: Under the provisions of section 31(d) of the Mineral Leasing Act, (30 U.S.C. 188(d)), a petition for reinstatement of oil and gas lease NMNM 106897 for lands in Quay County, New Mexico, was timely filed and was accompanied by all required rentals and royalties accruing from September 1, 2004, the date of termination.

FOR FURTHER INFORMATION CONTACT: Lourdes B. Ortiz, BLM, New Mexico State Office, (505) 438-7586.

SUPPLEMENTARY INFORMATION: No valid lease has been affecting the lands. The lessee has agreed to new lease terms for rentals and royalties at rates of $10.00 per acre or fraction thereof and 16⅔ percent, respectively. The lessee has paid the required $500.00 administrative fee and has reimbursed the Bureau of Land Management for the cost of this Federal Register notice.

The lessee has met all the requirements for reinstatement of the lease as set out in sections 31(d) and (e) of the Mineral Lease Act of 1920 (30 U.S.C. 188), and the Bureau of Land Management is proposing to reinstate the lease effective September 1, 2004, subject to the original terms and conditions of the lease and the increased rental and royalty rates cited above.

Lourdes B. Ortiz,
Land Law Examiner, Fluids Adjudication Team.

[FR Doc. 05-7961 Filed 4-20-05; 8:45 am]

BILLING CODE 4310-FB-P